SECURITIES AND EXCHANGE COMMISSION

[File No. 500-1]

ADSOUTH PARTNERS, Inc., American Racing Capital, Inc., Buck-A-Roo$ Holding Corporation, DDS Technologies USA, Inc., and VECTr Systems Inc.; Order of Suspension of Trading

April 23, 2010.

It appears to the Securities and Exchange Commission that there is a lack of current and accurate information concerning the securities of ADSOUTH PARTNERS, Inc. (CIK: 1158235) because it has not filed a periodic report for any reporting period since the period ended September 30, 2006.

It appears to the Securities and Exchange Commission that there is a lack of current and accurate information concerning the securities of American Racing Capital, Inc. (CIK: 1103086) because it has not filed a periodic report for any reporting period since the period ended March 31, 2008.

It appears to the Securities and Exchange Commission that there is a lack of current and accurate information concerning the securities of Buck-A-Roo$ Holding Corporation (CIK: 1314642) because it has not filed a periodic report for any reporting period since the period ended March 31, 2008.

It appears to the Securities and Exchange Commission that there is a lack of current and accurate information concerning the securities of DDS Technologies USA, Inc. (CIK: 1099217) because it has not filed a periodic report for any reporting period since the period ended September 30, 2006.

It appears to the Securities and Exchange Commission that there is a lack of current and accurate information concerning the securities of VECTr Systems Inc. (CIK: 1343259) because it has not filed a periodic report for any reporting period since the period ended September 30, 2007.

The Commission is of the opinion that the public interest and the protection of investors require a suspension of trading in the securities of the above-listed companies. Therefore, it is ordered, pursuant to section 12(k) of the Securities Exchange Act of 1934, that trading in the securities of the above-listed companies is suspended for the period from 9:30 a.m. EDT on April 23, 2010, through 11:59 p.m. EDT on May 6, 2010.

By the Commission.
Elizabeth M. Murphy,
Secretary.

[FR Doc. 2010-9810 Filed 4-23-10; 4:15 pm]

BILLING CODE 8011-01-P